DEPARTMENT OF VETERANS AFFAIRS

Advisory Committee on Former Prisoners of War, Notice of Meeting

The Department of Veterans Affairs (VA) gives notice under the Federal Advisory Committee Act that the Advisory Committee on Former Prisoners of War (FPOW) will meet September 20-23, 2018, from 8 a.m.-5:30 p.m. PDT at the Loma Linda VA Medical Facility located at 11201 Benton Street, Loma Linda, CA 92357. Sessions are open to the public, except when the Committee is conducting a tour of VA facilities. Tours of VA facilities are closed, to protect Veterans' privacy and personal information.

The purpose of the Committee is to advise the Secretary of Veterans Affairs on the administration of benefits for Veterans who are FPOWs, and to make recommendations on the needs of such Veterans for compensation, health care, and rehabilitation.

On Thursday, September 20th, the Committee will assemble in open session from 8 a.m. to 5:30 p.m. for discussion and briefings from Veterans Benefits Administration (VBA) and Veterans Health Administration (VHA) officials.

On Friday, September 21st, the Committee will convene an open session to hear briefings from 8 a.m. to 11 a.m. From 11:10 a.m. to 2:30 p.m., the Committee will convene a to travel to and tour the National POW/MIA Memorial. From 2:30 p.m. to 5:30 p.m., the Committee will convene a closed session-to meet at the subcommittee level where they will perform prepatory work covering research areas and distribution of work load. Under 5 U.S.C. 552b(c) under (9)(B), the meeting is closed because it would reveal information the disclosure of which would, “in the case of an agency, be likely to significantly frustrate implementation of a proposed agency action.” Any precipitous release of those discussions through an open session will frustrate implementation and potentially our Veterans who we consider our greatest customer/benefactor of the commission.

On Saturday, September 22nd from 8 a.m. to 9:30 a.m., the Committee will continue its closed session of those discussions items from the previous afternoon meeting. At 10 a.m., the Committee will take part in a National POW/MIA Recognition Day Ceremony at the Loma Linda VA medical center. At 12 p.m., the committee meeting will be formally adjourned. Public participation will commence as follows:

Date | Time | Open session
September 20, 2018 | 8 a.m.-5:30 p.m | Yes.
September 21, 2018 | 8 a.m.-11 a.m | Yes.
September 21, 2018 | 11:10 a.m.-5:30 p.m | No.
September 22, 2018 | 8 a.m.-9:30 a.m | No.
September 22, 2018 | 10 a.m.-12 p.m | Yes.

FPOWs who wish to speak at the public forum are invited to submit a 1-2-page commentary for inclusion in official meeting records. Any member of the public may also submit a 1-2-page commentary for the Committee's review.

Any member of the public wishing to attend the meeting or seeking additional information should contact Ms. Leslie N. Williams, Designated Federal Officer, Advisory Committee on Former Prisoners of War at Leslie.Williams1@va.gov or via phone at (202) 530-9219.

Dated: August 31, 2018.
LaTonya L. Small,
Federal Advisory Committee Management Officer.

[FR Doc. 2018-19373 Filed 9-6-18; 8:45 am]

BILLING CODE P